DEPARTMENT OF LABOR

Office of the Secretary

20 CFR Chs. I, IV, V, VI, VII, and IX

29 CFR Subtitle A and Chs. II, IV, V, XVII, and XXV

30 CFR Ch. I

41 CFR Ch. 60

48 CFR Ch. 29

Semiannual Agenda of Regulations

AGENCY: Office of the Secretary, Labor.

ACTION: Semiannual Regulatory Agenda.

SUMMARY: The Internet has become the means for disseminating the entirety of the Department of Labor's semiannual regulatory agenda. However, the Regulatory Flexibility Act requires publication of a regulatory flexibility agenda in the Federal Register. This Federal Register Notice contains the regulatory flexibility agenda.

FOR FURTHER INFORMATION CONTACT: Kathleen Franks, Director, Office of Regulatory Policy, Office of the Assistant Secretary for Policy, U.S. Department of Labor, 200 Constitution Avenue NW., Room S-2312, Washington, DC 20210; (202) 693-5959.

Note: Information pertaining to a specific regulation can be obtained from the agency contact listed for that particular regulation.

SUPPLEMENTARY INFORMATION: Executive Order 12866 requires the semiannual publication of an agenda of regulations that contains a listing of all the regulations the Department of Labor expects to have under active consideration for promulgation, proposal, or review during the coming one-year period. The entirety of the Department's semiannual agenda is available online at www.reginfo.gov.

The Regulatory Flexibility Act (5 U.S.C. 602) requires DOL to publish in the Federal Register a regulatory flexibility agenda. The Department's Regulatory Flexibility Agenda published with this notice includes only those rules on its semiannual agenda that are likely to have a significant economic impact on a substantial number of small entities; and those rules identified for periodic review in keeping with the requirements of section 610 of the Regulatory Flexibility Act. Thus, the regulatory flexibility agenda is a subset of the Department's semiannual regulatory agenda. There is only one item on the Department of Labor's Regulatory Flexibility Agenda:

Occupational Safety and Health Administration

Bloodborne Pathogens (RIN 1218-AC34).

Thomas E. Perez,
Secretary of Labor.

Wage and Hour Division—Final Rule Stage
Sequence No. | Title | Regulation Identifier No.
182 | Defining and Delimiting the Exemptions for Executive, Administrative, Professional, Outside Sales, and Computer Employees | 1235-AA11
183 | Establishing Paid Sick Leave for Contractors, Executive Order 13706 | 1235-AA13

Employment and Training Administration—Proposed Rule Stage
Sequence No. | Title | Regulation Identifier No.
184 | Modernizing the Permanent Labor Certification Program (PERM) | 1205-AB75

Employment and Training Administration—Final Rule Stage
Sequence No. | Title | Regulation Identifier No.
185 | Workforce Innovation and Opportunity Act | 1205-AB73
186 | Workforce Innovation and Opportunity Act; Joint Rule With U.S. Department of Education for Combined and Unified State Plans, Performance Accountability, and the One-Stop System Joint Provisions | 1205-AB74

Employee Benefits Security Administration—Completed Actions
Sequence No. | Title | Regulation Identifier No.
187 | Conflict of Interest Rule—Investment Advice | 1210-AB32

Occupational Safety and Health Administration—Prerule Stage
Sequence No. | Title | Regulation Identifier No.
188 | Bloodborne Pathogens (Section 610 Review) | 1218-AC34
189 | Combustible Dust | 1218-AC41
190 | Preventing Backover Injuries and Fatalities | 1218-AC51

Occupational Safety and Health Administration—Proposed Rule Stage
Sequence No. | Title | Regulation Identifier No.
191 | Occupational Exposure to Beryllium | 1218-AB76
192 | Infectious Diseases | 1218-AC46

Occupational Safety and Health Administration—Long-Term Actions
Sequence No. | Title | Regulation Identifier No.
193 | Injury and Illness Prevention Program | 1218-AC48

Occupational Safety and Health Administration—Completed Actions
Sequence No. | Title | Regulation Identifier No.
194 | Occupational Exposure to Crystalline Silica | 1218-AB70

DEPARTMENT OF LABOR (DOL)

Wage and Hour Division (WHD)

Final Rule Stage

182. Defining and Delimiting the Exemptions for Executive, Administrative, Professional, Outside Sales, and Computer Employees

Legal Authority: 29 U.S.C. 213(a)(1) (Fair Labor Standards Act)

Abstract: The Department proposes to update the regulations governing which executive, administrative, and professional employees (white collar workers) are entitled to the Fair Labor Standards Act's minimum wage and overtime pay protections. Key provisions of the proposed rule include: (1) Setting the standard salary level required for exemption for full-time salaried workers; (2) increasing the total annual compensation requirement needed to exempt highly compensated employees; and (3) establishing a mechanism for automatically updating the salary and compensation levels going forward to ensure that they will continue to provide a useful and effective test for exemption. The Department last updated these regulations in 2004, which, among other items, set the standard salary level at not less than $455 per week.

Timetable:

Action | Date | FR Cite
NPRM | 07/06/15 | 80 FR 38516
NPRM Comment Period End | 09/04/15
Final Rule | 05/00/16

Regulatory Flexibility Analysis Required: Yes.

Agency Contact: Mary Ziegler, Assistant Administrator, Office of Policy, Wage and Hour (WHD), Department of Labor, Wage and Hour Division, 200 Constitution Avenue NW., Room S-3502, FP Building, Washington, DC 20210, Phone: 202 693-0406, Fax: 202 693-1387.

RIN: 1235-AA11

183. Establishing Paid Sick Leave for Contractors, Executive Order 13706

Legal Authority: Not Yet Determined

Abstract: Executive Order 13706, Establishing Paid Sick Leave for Federal Contractors (80 FR 54697) establishes paid sick leave for Federal contractors and subcontractors. The Executive order indicates that Executive Departments and agencies shall, to the extent permitted by law, ensure that new contracts, contract-like instruments, and solicitations as described in section 6 of the order, include a clause, which the contractor and any subcontractors shall incorporate into lower-tier subcontracts, specifying that all employees, in the performance of the contract or any subcontract thereunder, shall earn not less than one hour of paid sick leave for every 30 hours worked. Consistent with the Executive order, the Department of Labor will issue implementing regulations.

Timetable:

Action | Date | FR Cite
NPRM | 02/25/16 | 81 FR 9592
NPRM Comment Period End | 03/28/16
NPRM Comment Period Extended | 03/14/16 | 81 FR 13306
NPRM Comment Period Extended End | 04/12/16
Final Rule | 09/00/16

Regulatory Flexibility Analysis Required: Yes.

Agency Contact: Robert Waterman, Compliance Specialist, Department of Labor, Wage and Hour Division, 200 Constitution Avenue NW., Room S-3010, Washington, DC 20210, Phone: 202 693-0805, Email: waterman.robert@dol.gov.

RIN: 1235-AA13

DEPARTMENT OF LABOR (DOL)

Employment and Training Administration (ETA)

Proposed Rule Stage

184. Modernizing the Permanent Labor Certification Program (PERM)

Legal Authority: 8 U.S.C. 1152(a)(5)(A)

Abstract: The PERM regulations govern the labor certification process for employers seeking to employ foreign workers permanently in the United States. The Department of Labor (Department) has not comprehensively examined and modified the permanent labor certification requirements and process since 2004. Over the last ten years, much has changed in our country's economy, affecting employers' demand for workers and the availability of a qualified domestic labor force. Advances in technology and information dissemination have dramatically altered common industry recruitment practices, and the Department has received ongoing feedback that the existing regulatory requirements governing the PERM process frequently do not align with worker or industry needs and practices. Therefore, the Department is engaging in rulemaking that will consider options to modernize the PERM program to be more responsive to changes in the national workforce, to further align the program design with the objectives of the U.S. immigration system and needs of workers and employers, and to enhance the integrity of the labor certification process.

Timetable:

Action | Date | FR Cite
NPRM | 05/00/16

Regulatory Flexibility Analysis Required: Yes.

Agency Contact: William W. Thompson II, Acting Administrator, Office of Foreign Labor Certification, Department of Labor, Employment and Training Administration, 200 Constitution Avenue NW., FP Building, Room C-4312, Washington, DC 20210, Phone: 202 693-3010.

RIN: 1205-AB75

DEPARTMENT OF LABOR (DOL)

Employment and Training Administration (ETA)

Final Rule Stage

185. Workforce Innovation and Opportunity Act

Legal Authority: Sec. 503(f) of the Workforce Innovation and Opportunity Act (Pub. L. 113-128)

Abstract: On July 22, 2014, the President signed the Workforce Innovation and Opportunity Act (WIOA) (Pub. L. 113-128). WIOA repeals the Workforce Investment Act of 1998 (WIA) and amends the Wagner-Peyser Act. (29 U.S.C. 2801 et seq.) The Department of Labor issued a Notice of Proposed Rulemaking (NPRM) on April 16, 2015, that proposed to implement the changes WIOA makes to the public workforce system in regulations. Through the NPRM, the Department proposed ways to carry out the purposes of WIOA to provide workforce investment activities, through State and local workforce development systems, that increase employment, retention, and earnings of participants, meet the skill requirements of employers, and enhance the productivity and competitiveness of the Nation. The Department has analyzed the comments received and is developing a final rule.

Timetable:

Action | Date | FR Cite
NPRM | 04/16/15 | 80 FR 20690
NPRM Comment Period End | 06/15/15
Final Rule | 06/00/16

Regulatory Flexibility Analysis Required: Yes.

Agency Contact: Portia Wu, Assistant Secretary for Employment and Training, Department of Labor, Employment and Training Administration, 200 Constitution Avenue NW., FP Building, Washington, DC 20210, Phone: 202 639-2700.

RIN: 1205-AB73

186. Workforce Innovation and Opportunity Act; Joint Rule With U.S. Department of Education for Combined and Unified State Plans, Performance Accountability, and the One-Stop System Joint Provisions

Legal Authority: Sec. 503(f) of the Workforce Innovation and Opportunity Act (Pub. L. 113-128)

Abstract: On July 22, 2014, the President signed the Workforce Innovation and Opportunity Act (WIOA) (Pub. L. 113-128) which repeals the Workforce Investment Act of 1998 (WIA). (29 U.S.C. 2801 et seq.) As directed by WIOA, the Departments of Education and Labor issued a Notice of Proposed Rulemaking (NPRM) on April 16, 2015, to implement the changes in regulations that WIOA makes to the public workforce system regarding Combined and Unified State Plans, performance accountability for WIOA title I, title II, title III, and title IV programs, and the one-stop delivery system.

All of the other regulations implementing WIOA were published by the Departments of Labor and Education in separate NPRMs. The Departments have analyzed the comments received and are developing a final rule.

Timetable:

Action | Date | FR Cite
NPRM | 04/16/15 | 80 FR 20574
NPRM Comment Period End | 06/15/15
Final Rule | 06/00/16

Regulatory Flexibility Analysis Required: Yes.

Agency Contact: Portia Wu, Assistant Secretary for Employment and Training, Department of Labor, Employment and Training Administration, 200 Constitution Avenue NW., FP Building, Washington, DC 20210, Phone: 202 639-2700.

RIN: 1205-AB74

DEPARTMENT OF LABOR (DOL)

Employee Benefits Security Administration (EBSA)

Completed Actions

187. Conflict of Interest Rule—Investment Advice

Legal Authority: 29 U.S.C. 1002; ERISA sec 3(21); 29 U.S.C. 1135; ERISA sec 505

Abstract: This rulemaking would reduce harmful conflicts of interest by amending the regulatory definition of the term “fiduciary” set forth at 29 CFR 2510.3-21(c) to more broadly define as fiduciaries those persons who render investment advice to plans and IRAs for a fee within the meaning of section 3(21) of the Employee Retirement Income Security Act (ERISA) and section 4975(e)(3) of the Internal Revenue Code. The amendment would take into account current practices of investment advisers, and the expectations of plan officials and participants, and IRA owners who receive investment advice, as well as changes that have occurred in the investment marketplace, and in the ways advisers are compensated that frequently subject advisers to harmful conflicts of interest.

Timetable:

Action | Date | FR Cite
NPRM | 10/22/10 | 75 FR 65263
NPRM Comment Period End | 01/20/11 |
Second NPRM | 04/20/15 | 80 FR 21928
Second NPRM Comment Period End | 07/06/15 |
Notice of Public Hearing and Extension of Comment Period | 06/18/15 | 80 FR 34869
Extension of Comment Period End | 07/21/15 |
Final Action | 04/08/16 | 81 FR 20945
Final Rule Effective | 06/07/16 |

Regulatory Flexibility Analysis Required: Yes.

Agency Contact: Jeffrey J. Turner, Deputy Director, Office of Regulations and Interpretations, Department of Labor, Employee Benefits Security Administration, 200 Constitution Avenue NW., FP Building, Room N-5655, Washington, DC 20210, Phone: 202 693-8500.

RIN: 1210-AB32

DEPARTMENT OF LABOR (DOL)

Occupational Safety and Health Administration (OSHA)

Prerule Stage

188. Bloodborne Pathogens (Section 610 Review)

Legal Authority: 5 U.S.C. 533; 5 U.S.C. 610; 29 U.S.C. 655(b)

Abstract: OSHA will undertake a review of the Bloodborne Pathogen Standard (29 CFR 1910.1030) in accordance with the requirements of the Regulatory Flexibility Act and section 5 of Executive Order 12866. The review will consider the continued need for the rule; whether the rule overlaps, duplicates, or conflicts with other Federal, State or local regulations; and the degree to which technology, economic conditions, or other factors may have changed since the rule was evaluated.

Timetable:

Action | Date | FR Cite
Begin Review | 10/22/09 |
Request for Comments Published | 05/14/10 | 75 FR 27237
Comment Period End | 08/12/10 |
End Review and Issue Findings | 10/00/16 |

Regulatory Flexibility Analysis Required: No.

Agency Contact: Amanda Edens, Director, Directorate of Technical Support and Emergency Management, Department of Labor, Occupational Safety and Health Administration, 200 Constitution Avenue NW., FP Building, Room N-3653, Washington, DC 20210, Phone: 202 693-2300, Fax: 202 693-1644, Email: edens.mandy@dol.gov.

RIN: 1218-AC34

189. Combustible Dust

Legal Authority: 29 U.S.C. 655(b); 29 U.S.C. 657

Abstract: Occupational Safety and Health Administration (OSHA) has initiated rulemaking to develop a combustible dust standard for general industry. OSHA will use information gathered, including from an upcoming SBREFA panel, to develop a comprehensive standard that addresses combustible dust hazards.

Timetable:

Action | Date | FR Cite
ANPRM | 10/21/09 | 74 FR 54333
Stakeholder Meetings | 12/14/09 |
ANPRM Comment Period End | 01/19/10 |
Stakeholders Meetings | 03/09/10 | 75 FR 10739
Initiate SBREFA | 10/00/16 |

Regulatory Flexibility Analysis Required: Yes.

Agency Contact: William Perry, Director, Directorate of Standards and Guidance, Department of Labor, Occupational Safety and Health Administration, 200 Constitution Avenue NW., FP Building, Room N-3718, Washington, DC 20210, Phone: 202 693-1950, Fax: 202 693-1678, Email: perry.bill@dol.gov

RIN: 1218-AC41

190. Preventing Backover Injuries And Fatalities

Legal Authority: 29 U.S.C. 655(b)

Abstract: Backing vehicles and equipment are common causes of struck-by injuries and can also cause caught-between injuries when backing vehicles and equipment pin a worker against an object. Struck-by injuries and caught-between injuries are two of the four leading causes of workplace fatalities. The Bureau of Labor Statistics reports that in 2013, 67 workers were fatally backed over while working. While many backing incidents can prove to be fatal, workers can suffer severe, non-fatal injuries as well. A review of OSHA's Integrated Management Information System (IMIS) database found that backing incidents can result in serious injury to the back and pelvis, fractured bones, concussions, amputations, and other injuries. Emerging technologies in the field of backing operations may prevent incidents. The technologies include cameras and proximity detection systems. The use of spotters and internal traffic control plans can also make backing operations safer. The Agency has held stakeholder meetings on backovers, and is conducting site visits to employers, and is developing a standard to address these hazards.

Timetable:

Action | Date | FR Cite
Request for Information (RFI) | 03/29/12 | 77 FR 18973
RFI Comment Period End | 07/27/12 |
Initiate SBREFA | 12/00/16 |

Regulatory Flexibility Analysis Required: Yes.

Agency Contact: Dean Mckenzie, Acting Director, Directorate of Construction, Department of Labor, Occupational Safety and Health Administration, Room N-3468, FP Building, 200 Constitution Avenue NW., Washington, DC 20210, Phone: 202 693-2020, Fax: 202 693-1689, Email: mckenzie.dean@dol.gov.

RIN: 1218-AC51

DEPARTMENT OF LABOR (DOL)

Occupational Safety and Health Administration (OSHA)

Proposed Rule Stage

191. Occupational Exposure to Beryllium

Legal Authority: 29 U.S.C. 655(b); 29 U.S.C. 657

Abstract: In 1999 and 2001, OSHA was petitioned to issue an emergency temporary standard for permissible exposure limit (PEL) to beryllium by the United Steel Workers (formerly the Paper Allied-Industrial, Chemical, and Energy Workers Union), Public Citizen Health Research Group, and others. The Agency denied the petitions but stated its intent to begin data gathering to collect needed information on beryllium's toxicity, risks, and patterns of usage. On November 26, 2002, OSHA published a Request for Information (RFI) (67 FR 70707) to solicit information pertinent to occupational exposure to beryllium, including: current exposures to beryllium; the relationship between exposure to beryllium and the development of adverse health effects; exposure assessment and monitoring methods; exposure control methods; and medical surveillance. In addition, the Agency conducted field surveys of selected worksites to assess current exposures and control methods being used to reduce employee exposures to beryllium. OSHA convened a Small Business Advocacy Review Panel under the Small Business Regulatory Enforcement Fairness Act (SBREFA) and completed the SBREFA Report in January 2008. OSHA also completed a scientific peer review of its draft risk assessment.

Timetable:

Action | Date | FR Cite
Request for Information (RFI) | 11/26/02 | 67 FR 70707
RFI Comment Period End | 02/24/03 |
SBREFA Report Completed | 01/23/08 |
Initiated Peer Review of Health Effects and Risk Assessment | 03/22/10 |
Complete Peer Review | 11/19/10 |
NPRM | 08/07/15 | 80 FR 47565
NPRM Comment Period End | 11/05/15 |
Notice of Public Hearing; Date 02/29/2016 | 12/30/15 | 80 FR 81475
Notice of Public Hearing; Date Change 03/21/2016 | 02/16/16 | 81 FR 7717
Analyze Comments | 06/00/16 |

Regulatory Flexibility Analysis Required: Yes.

Agency Contact: William Perry, Director, Directorate of Standards and Guidance, Department of Labor, Occupational Safety and Health Administration, 200 Constitution Avenue NW., FP Building, Room N-3718, Washington, DC 20210, Phone: 202 693-1950, Fax: 202 693-1678, Email: perry.bill@dol.gov.

RIN: 1218-AB76

192. Infectious Diseases

Legal Authority: 5 U.S.C. 533; 29 U.S.C. 657 and 658; 29 U.S.C. 660; 29 U.S.C. 666; 29 U.S.C. 669; 29 U.S.C. 673

Abstract: Employees in health care and other high-risk environments face long-standing infectious disease hazards such as tuberculosis (TB), varicella disease (chickenpox, shingles), and measles (rubeola), as well as new and emerging infectious disease threats, such as Severe Acute Respiratory Syndrome (SARS) and pandemic influenza. Health care workers and workers in related occupations, or who are exposed in other high-risk environments, are at increased risk of contracting TB, SARS, Methicillin-resistant Staphylococcus aureus (MRSA), and other infectious diseases that can be transmitted through a variety of exposure routes. OSHA is concerned about the ability of employees to continue to provide health care and other critical services without unreasonably jeopardizing their health. OSHA is developing a standard to ensure that employers establish a comprehensive infection control program and control measures to protect employees from infectious disease exposures to pathogens that can cause significant disease. Workplaces where such control measures might be necessary include: Health care, emergency response, correctional facilities, homeless shelters, drug treatment programs, and other occupational settings where employees can be at increased risk of exposure to potentially infectious people. A standard could also apply to laboratories, which handle materials that may be a source of pathogens, and to pathologists, coroners' offices, medical examiners, and mortuaries.

Timetable:

Action | Date | FR Cite
Request for Information (RFI) | 05/06/10 | 75 FR 24835
RFI Comment Period End | 08/04/10 |
Analyze Comments | 12/30/10 |
Stakeholder Meetings | 07/05/11 | 76 FR 39041
Initiate SBREFA | 06/04/14 |
Complete SBREFA | 12/22/14 |
NPRM | 03/00/17 |

Regulatory Flexibility Analysis Required: Yes.

Agency Contact: William Perry, Director, Directorate of Standards and Guidance, Department of Labor, Occupational Safety and Health Administration, 200 Constitution Avenue NW., FP Building, Room N-3718, Washington, DC 20210, Phone: 202 693-1950, Fax: 202 693-1678, Email: perry.bill@dol.gov.

RIN: 1218-AC46

DEPARTMENT OF LABOR (DOL)

Occupational Safety and Health Administration (OSHA)

Long-Term Actions

193. Injury and Illness Prevention Program

Legal Authority: 29 U.S.C. 653; 29 U.S.C. 655(b); 29 U.S.C. 657

Abstract: OSHA is developing a rule requiring employers to implement an Injury and Illness Prevention Program. It involves planning, implementing, evaluating, and improving processes and activities that protect employee safety and health. OSHA has substantial data on reductions in injuries and illnesses from employers who have implemented similar effective processes. The Agency currently has voluntary Safety and Health Program Management Guidelines (54 FR 3904 to 3916), published in 1989. An injury and illness prevention program rule would build on these guidelines as well as lessons learned from successful approaches and best practices under OSHA's Voluntary Protection Program, Safety and Health Achievement Recognition Program, and similar industry and international initiatives such as American National Standards Institute/American Industrial Hygiene Association Z10, and Occupational Health and Safety Assessment Series 18001.

Timetable:

Action | Date | FR Cite
Notice of Stakeholder Meetings | 05/04/10 | 75 FR 23637
Notice of Additional Stakeholder Meetings | 06/22/10 | 75 FR 35360
SBREFA | To Be Determined

Regulatory Flexibility Analysis Required: Yes.

Agency Contact: William Perry, Director, Directorate of Standards and Guidance, Department of Labor, Occupational Safety and Health Administration, 200 Constitution Avenue NW., FP Building, Room N-3718, Washington, DC 20210, Phone: 202 693-1950, Fax: 202 693-1678, Email: perry.bill@dol.gov.

RIN: 1218-AC48

DEPARTMENT OF LABOR (DOL)

Occupational Safety and Health Administration (OSHA)

Completed Actions

194. Occupational Exposure to Crystalline Silica

Legal Authority: 29 U.S.C. 655(b); 29 U.S.C. 657

Abstract: Crystalline silica is a significant component of the earth's crust, and many workers in a wide range of industries are exposed to it, usually in the form of respirable quartz or, less frequently, cristobalite. Chronic silicosis is a uniquely occupational disease resulting from exposure of employees over long periods of time (10 years or more). Exposure to high levels of respirable crystalline silica causes acute or accelerated forms of silicosis that are ultimately fatal. The current OSHA permissible exposure limit (PEL) for general industry is based on a formula proposed by the American Conference of Governmental Industrial Hygienists (ACGIH) in 1968 (PEL = 10mg/cubic meter/(% silica + 2), as respirable dust). The current PEL for construction and shipyards (derived from ACGIH's 1970 Threshold Limit Value) is based on particle counting technology, which is considered obsolete. NIOSH and ACGIH recommend 50 μg/m³ and 25 μg/m³ exposure limits, respectively, for respirable crystalline silica.

Both industry and worker groups have recognized that a comprehensive standard for crystalline silica is needed to provide for exposure monitoring, medical surveillance, and worker training. ASTM International has published recommended standards for addressing the hazards of crystalline silica. The Building Construction Trades Department of the AFL-CIO has also developed a recommended comprehensive program standard. These standards include provisions for methods of compliance, exposure monitoring, training, and medical surveillance.

The NPRM was published on September 12, 2013 (78 FR 56274). OSHA received over 1,700 comments from the public on the proposed rule, and over 200 stakeholders provided testimony during public hearings on the proposal. The agency is now reviewing and considering the evidence in the rulemaking record.

Timetable:

Action | Date | FR Cite
Completed SBREFA Report | 12/19/03 |
Initiated Peer Review of Health Effects and Risk Assessment | 05/22/09 |
Completed Peer Review | 01/24/10 |
NPRM | 09/12/13 | 78 FR 56274
NPRM Comment Period Extended; Notice of Intention to Appear at Pub Hearing; Scheduling Pub Hearing | 10/31/13 | 78 FR 65242
NPRM Comment Period Extended | 01/29/14 | 79 FR 4641
NPRM Comment Period Extended End | 02/11/14 |
Informal Public Hearing | 03/18/14 |
Post Hearing Briefs Ends | 08/18/14 |
Final Rule | 03/25/16 | 81 FR 16285
Final Rule Effective | 06/23/16 |

Regulatory Flexibility Analysis Required: Yes.

Agency Contact: William Perry, Director, Directorate of Standards and Guidance, Department of Labor, Occupational Safety and Health Administration, 200 Constitution Avenue NW., FP Building, Room N-3718, Washington, DC 20210, Phone: 202 693-1950, Fax: 202 693-1678, Email: perry.bill@dol.gov.

RIN: 1218-AB70

[FR Doc. 2016-12911 Filed 6-8-16; 8:45 am]

BILLING CODE 4510-HL-P